DEPARTMENT OF ENERGY

Federal Energy Regulatory Commission

[Project No. 2520-098]

Great Lakes Hydro America, LLC; Notice of Availability of Environmental Assessment

In accordance with the National Environmental Policy Act of 1969 and the Federal Energy Regulatory Commission's (Commission or FERC) regulations, 18 CFR part 380, Commission staff reviewed Great Lakes Hydro America, LLC's application for a temporary variance of the license for the Mattaceunk Hydroelectric Project No. 2520 and has prepared an Environmental Assessment (EA) for the project.¹ The licensee proposes to draw the impoundment down to perform repair to the upstream fishway and log sluice at the Mattaceunk Project, replace the sluice gate due to deterioration, and perform concrete repairs to the leaking slots immediately downstream of the sluice gate. The fishway maintenance work is necessary in preparation for upcoming and required evaluations of the fishway for upstream Gulf of Maine Distinct Population Segment of Atlantic salmon passage that begins in 2026. The project is located on the Penobscot River, in Aroostook and Penobscot counties, Maine and does not occupy federal land.

¹ The unique identification number for documents relating to this environmental review is EAXX-019-20-000-1753693860.

The EA contains Commission staff's analysis of the potential environmental effects of the proposed temporary variance, alternatives to the proposed action, and concludes that the temporary variance, with appropriate environmental protective measures, would not constitute a major federal action that would significantly affect the quality of the human environment.

The EA may be viewed on the Commission's website at http://www.ferc.gov using the “elibrary” link. Enter the docket number (P-2520) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

For further information, contact Selina Sumi at 202-502-6892 or selina.sumi@ferc.gov.

Dated: August 29, 2025.
Debbie-Anne A. Reese,
Secretary.

[FR Doc. 2025-16957 Filed 9-3-25; 8:45 am]

BILLING CODE 6717-01-P